ENVIRONMENTAL PROTECTION AGENCY

[FRL-10001-95-OMS]

Good Neighbor Environmental Board

AGENCY: Environmental Protection Agency (EPA).

ACTION: Request for nominations to the Good Neighbor Environmental Board.

SUMMARY: The U.S. Environmental Protection Agency (EPA) invites nominations from a diverse range of qualified candidates to be considered for appointment to its Good Neighbor Environmental Board (GNEB). Vacancies are expected to be filled by March 31, 2020. Sources in addition to this Federal Register Notice may also be utilized in the solicitation of nominees.

ADDRESSES: Submit nominations to Eugene Green, Designated Federal Officer, Office of Resources and Business Operations, Federal Advisory Committee Management Division (1601M), 1200 Pennsylvania Avenue NW, Washington, DC 20460. You may also email nominations with the subject line COMMITTEE APPLICATION PACKAGE 2020 for (Name of Nominee) to green.eugene@epa.gov.

FOR FURTHER INFORMATION CONTACT: Eugene Green, Designated Federal Officer, U.S. EPA, telephone 202-564-2432, fax: 202-564-8129.

SUPPLEMENTARY INFORMATION: Background: GNEB is a federal advisory committee chartered under the Federal Advisory Committee Act (FACA), Public Law 92-463. GNEB was created in 1992 by the Enterprise for the Americas Initiative Act, Public Law 102-532, 7 U.S.C. 5404. Implementing authority was delegated to the Administrator of EPA under Executive Order 12916. The GNEB is charged by statute with submitting an annual report to the President on the need for implementation of environmental and infrastructure projects within the states of the United States contiguous to Mexico. The statute calls for the GNEB to have representatives from U.S. Government agencies; the governments of the states of Arizona, California, New Mexico and Texas; and tribal and private organizations with experience in environmental and infrastructure issues along the US/Mexico Border. Members are appointed by the EPA Administrator for two-year terms with the possibility of reappointment. The GNEB meets approximately three times annually either in person or via video/teleconference. The average workload for committee members is approximately 10 to 15 hours per month. Members serve on the committees in a voluntary capacity. Although we are unable to offer compensation or an honorarium, members may receive travel and per diem allowances, according to applicable federal travel regulations. The EPA is seeking nominations from a variety of nongovernmental interests along the U.S.-Mexico border from the private sector, including representatives from business, academia, environmental groups, health groups, ranching and grazing, energy, financial, and other relevant sectors. EPA values and welcomes diversity. To obtain nominations of diverse candidates, EPA encourages nominations of women and men of all racial and ethnic groups.

The following criteria will be used to evaluate nominees:

• Background and experiences that would help members contribute to the diversity of perspectives on the committee (e.g., geographic, economic, social, cultural, educational, and other considerations).

• Representative of a sector or group that helps to shape border-region environmental policy or representatives of a group that is affected by border region environmental policy.

• Has extensive professional knowledge and experience with the issues that the GNEB examines (i.e., environmental and infrastructure issues along the U.S.-Mexico border), including the bi-national dimension of these issues.

• Bring senior level experience that will fill a need of the GNEB in bringing a new and relevant dimension to its deliberations.

• Possesses a demonstrated ability to work in a consensus building process with a wide range of representatives from diverse constituencies.

• Ability to contribute approximately 10 to 15 hours per month to the GNEB's activities, including face-to-face meetings, conference calls and participation in the development of the GNEB's annual report to the President and comment letters.

• Nominees may self-nominate by submitting a resume describing their professional and educational qualifications, including current business address, email and daytime telephone number.

• All nominees must demonstrate the potential for active and constructive involvement in the GNEB's work.

If you are interested in serving on GNEB, we will need the following items to process your nomination package:

• Nominations must include a brief statement of interest, resume, curriculum vitae, or a short biography (no more than two paragraphs) describing your professional and educational qualifications, including a list of relevant activities and any current or previous service on advisory committees. The statement of interest, resume, curriculum vitae, or short biography should include the candidate's name, name and address of current organization, position title, email address, and daytime telephone number(s). In preparing your statement of interest, please describe how your background, knowledge, and experience will bring value to the work of the committee, and how these qualifications would contribute to the overall diversity of the GNEB. Also, be sure to describe any previous involvement with the Agency through employment, grant funding and/or contracting sources.

• Candidates from the academic sector must also provide a letter of recommendation authorizing the nominee to represent their institution.

• Please be advised that federal registered lobbyists are not permitted to serve on federal advisory boards.

Federal Advisory Committee Term and Condition: As indicated in the EPA memorandum, Strengthening and Improving Membership on EPA Federal Advisory Committees, issued on October 31, 2017, no member of an EPA Federal Advisory Committee may receive compensation from EPA grants, either as a principal investigator or co-investigator, or be in a position that otherwise would reap substantial direct benefit from the grant, while serving on an EPA Federal Advisory Committee.

Accordingly, an individual's ability to begin or continue serving on an EPA Federal Advisory committee may be impacted if during the individual's expected or ongoing service:

• (a) The grant recipient lists the individual as a principal investigator or co-investigator on the grant; or

• (b) The individual is not listed on the grant but is in a position for the entity such that the individual would otherwise reap substantial direct benefit from the grant.

This term and condition does not apply to state, local, or tribal government recipients.

Dated: October 25, 2019.
Eugene Green,
Program Analyst.

[FR Doc. 2019-24745 Filed 11-13-19; 8:45 am]

BILLING CODE 6560-50-P